DEPARTMENT OF LABOR

Employment and Training Administration

Notice of Determinations Regarding Eligibility To Apply for Worker Adjustment Assistance and Alternative Trade Adjustment Assistance

In accordance with section 223 of the Trade Act of 1974, as amended (19 U.S.C. 2273) the Department of Labor herein presents summaries of determinations regarding eligibility to apply for trade adjustment assistance for workers (TA-W) number and alternative trade adjustment assistance (ATAA) by (TA-W) number issued during the period of December 10 through December 14, 2007.

In order for an affirmative determination to be made for workers of a primary firm and a certification issued regarding eligibility to apply for worker adjustment assistance, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of section 222(a)(2)(A) (increased imports) of the Trade Act have been met.

TA-W-62,465; Hyper Knits Sales, Inc., A Subsidiary of Safer Holding Group, New York, NY: November 13, 2006.

TA-W-62,084; Weldsource Alliance, Inc., Oskkosh, WI: August 31, 2006.

TA-W-61,934; Maxtex Fibre Recycling, Inc.; Eden Plant, Eden, NY: August 2, 2006.

The following certifications have been issued. The requirements of section 222(a)(2)(B) (shift in production) of the Trade Act have been met.

TA-W-62,431; Bierner Hat Company; Div. of F&M Hat Company, Dallas, TX: August 18, 2007.

The following certifications have been issued. The requirements of section 222(b) (supplier to a firm whose workers are certified eligible to apply for TAA) of the Trade Act have been met.

None.

The following certifications have been issued. The requirements of section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of section 222(a)(2)(A) (increased imports) and section 246(a)(3)(A)(ii) of the Trade Act have been met.

TA-W-62,465A; Hyper Knits Sales, Inc.; A Subsidiary of Safer Holding Group, Commerce, CA: November 13, 2006.

TA-W-62,475; Derma Sciences; Formerly Nutramax, First Aid Division, Houston, TX: November 14, 2006.

TA-W-62,546; Remy Reman LLC; Raleigh, MS: December 6, 2006.

TA-W-62,097; Elliott Brother Steel; New Castle, PA: September 14, 2006.

TA-W-62,198; Shorewood Packaging Corp., Consumer Packaging Division, On-Site Leased Worker From Talent Tree, Waterbury, CT: September 24, 2006.

TA-W-62,327; Coshocton Leasing Company LLC; d/b/a Pretty Products, LLC, Pretty Products, Inc., Coshocton, OH: October 17, 2006.

TA-W-62,362; MW Custom Papers, LLC; Laurel Mill, A Subsidiary of Meadwestvaco Corp., South Lee, MA: October 24, 2006.

TA-W-62,384; Energy Conversion Systems; Dunn, NC: October 29, 2006.

TA-W-62,402; Alma Products; Automotive Air-Conditioner Compressors, Alma, MI: October 25, 2006.

TA-W-62,552; Hayes Lemmerz; Technical Center, Ferndale, MI: December 6, 2006.

TA-W-62,240; Toluca Garment Company; Toluca, IL: September 21, 2006.

TA-W-62,438; Chrysler LLC; St. Louis South Assembly Div., Fenton, MO: November 7, 2006.

The following certifications have been issued. The requirements of section 222(a)(2)(B) (shift in production) and section 246(a)(3)(A)(ii) of the Trade Act have been met.

TA-W-62,338; Wireco Worldgroup, Inc., formerly know as Wire Rope Corporation of America, St. Joseph, MO: October 17, 2006.

TA-W-62,401; Victor Forstmann, Inc., East Dublin, GA: July 27, 2007.

TA-W-62,408; PQ Corporation; Anderson Plant, Anderson, IN: November 5, 2006.

TA-W-62,409; Stanric, Inc., Engine Management Division, Fajardo, PR: November 1, 2006.

TA-W-62,427; UNI-Cadillac, LLC; Division of Universal Trim, Inc., Cadillac, MI: November 6, 2006.

TA-W-62,460; Amweld Building Products; Garrettsville Facility, Garrettsville, OH: November 2, 2006.

TA-W-62,460A; Amweld Building Products; Niles Facility, Niles, OH: November 2, 2006.

TA-W-62,503; Black and Decker Abrasives, Inc., On-Site Leased Workers from Willstaff, Marshall, TX: November 26, 2006.

TA-W-62,513; SE-GI Products, Inc.; Including Westaff, Norco, CA: November 28, 2006.

TA-W-62,042; Tecumseh Power Company; Grafton, WI: August 22, 2006.

TA-W-62,282; National Starch and Chemical Company; Specialty Starches Div., Island Falls, ME: October 5, 2006.

TA-W-62,431; Bierner Hat Company; Div. of F&M Hat Company, Dallas, TX: August 18, 2007.

TA-W-62,492; Thule Towing Systems; d/b/a Titan, Wyandotte, MI: November 21, 2006.

TA-W-62,496; GE Lighting Systems, Inc., Die Cast Department, Spherion, East Flat Rock, NC: November 20, 2006.

TA-W-62,496A; GE Lighting Systems, Inc., Sheet Metal Department, East Flat Rock, NC: November 20, 2006.

TA-W-62,496B; GE Lighting Systems, Inc., Ballast Department, East Flat Rock, NC: November 20, 2006.

TA-W-62,496C; GE Lighting Systems, Inc., NATCO Department, East Flat Rock, NC: November 20, 2006.

The following certifications have been issued. The requirements of section 222(b) (supplier to a firm whose workers are certified eligible to apply for TAA) and section 246(a)(3)(A)(ii) of the Trade Act have been met.

TA-W-62,086; Prelude Foam Products, Inc., Leased On-Site Workers from Ablest and Temporary Staffing, Thomasville, NC: August 31, 2006.

The following certifications have been issued. The requirements of section 222(b) (downstream producer for a firm whose workers are certified eligible to apply for TAA based on increased imports from or a shift in production to Mexico or Canada) and section 246(a)(3)(A)(ii) of the Trade Act have been met.

TA-W-62,430; Pageland Screen Printers; Pageland, SC: November 6, 2006.

Negative Determinations for Alternative Trade Adjustment Assistance

In the following cases, it has been determined that the requirements of 246(a)(3)(A)(ii) have not been met for the reasons specified.

The Department has determined that criterion (1) of section 246 has not been met. The firm does not have a significant number of workers 50 years of age or older.

TA-W-62,465; Hyper Knits Sales, Inc., A Subsidiary of Safer Holding Group, New York, NY.

TA-W-62,084; Weldsource Alliance, Inc., OskKosh, WI.

TA-W-61,934; Maxtex Fibre Recycling, Inc., Eden Plant, Eden, NY.

The Department has determined that criterion (2) of section 246 has not been met. Workers at the firm possess skills that are easily transferable.

TA-W-62,431; Bierner Hat Company; Div. of F&M Hat Company, Dallas, TX.

The Department has determined that criterion (3) of section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-62,260; Flexsteel Industries, Inc., Dubuque, IA.

TA-W-62,343; Parametric Technology Corporation, Arden Hills Division, Arden Hills, MN.

TA-W-62,464; Engineered Plastic Components, Rantoul, IL.

TA-W-62,507; Chester Bednar Rental Realty; Washington, PA.

The investigation revealed that criteria (a)(2)(A)(I.B.) (Sales or production, or both, did not decline) and (a)(2)(B)(II.B.) (shift in production to a foreign country) have not been met.

TA-W-62,453; BASF Corporation; Enka, NC.

TA-W-62,471; AGY; Huntingdon, PA.

The investigation revealed that criteria (a)(2)(A)(I.C.) (increased imports) and (a)(2)(B)(II.B.) (shift in production to a foreign country) have not been met.

TA-W-61,963; PennTecQ, Inc., Greenville, PA.

TA-W-62,003; Custom Tooling Systems, Inc., Zeeland, MI.

TA-W-62,071; Bedford Fair Apparel; A Division of Charming Shoppes, Inc., Greenwich, CT.

TA-W-62,441; Hitachi Global Storage Technology, San Jose, CA.

TA-W-62,334; Mammoth, Inc., A Subsidiary of Nortek, Inc., Chaska, MN.

TA-W-62,389; Peer Foods Group, Inc., On-Site Leased Workers of Personnel Management, Chicago, IL.

The workers' firm does not produce an article as required for certification under section 222 of the Trade Act of 1974.

TA-W-62,339; Teleplan Wireless Services, Chanhassen, MN.

TA-W-62,385; Windstream Communications, Inc., Broadband Customer Care Center, Lincoln, NE.

TA-W-62,424; Tanner Companies LLC; Rutherfordton, NC.

TA-W-62,444; Poirier's Inc., Fall River, MA.

TA-W-62,469; Springs Global, US, Inc., Springs Direct Division, Corporate Support Group, Lancaster, SC.

TA-W-62,469A; Springs Global, US, Inc., Springmaid Wamsutta Factory Store Division, Albertville, MN.

TA-W-62,469AA; Springs Global, US, Inc., Springmaid Wamsutta Factory Store Division, Lincoln City, OR.

TA-W-62,469B; Springs Global, US, Inc., Springmaid Wamsutta Factory Store Division, Asheville, NC.

TA-W-62,469BB; Springs Global, US, Inc., Springmaid Wamsutta Factory Store Division, Locust Grove, GA.

TA-W-62,469C; Springs Global, US, Inc., Springmaid Wamsutta Factory Store Division, Batesville, MS.

TA-W-62,469CC; Springs Global, US, Inc., Springmaid Wamsutta Factory Store Division, Loveland, CO.

TA-W-62,469D; Springs Global, US, Inc., Springmaid Wamsutta Factory Store Division, Bend, OR.

TA-W-62,469DD; Springs Global, US, Inc., Springmaid Wamsutta Factory Store Division, Myrtle Beach, SC.

TA-W-62,469E; Springs Global, US, Inc., Springmaid Wamsutta Factory Store Division, Birch Run, MI.

TA-W-62,469EE; Springs Global, US, Inc., Springmaid Wamsutta Factory Store Division, Opelika, AL.

TA-W-62,469F; Springs Global, US, Inc., Springmaid Wamsutta Factory Store Division, Boise, ID.

TA-W-62,469FF; Springs Global, US, Inc., Springmaid Wamsutta Factory Store Division, Osage Beach, MO.

TA-W-62,469G; Springs Global, US, Inc., Springmaid Wamsutta Factory Store Division, Branson, MO.

TA-W-62,469GG; Springs Global, US, Inc., Springmaid Wamsutta Factory Store Division, Pigeon Forge, TN.

TA-W-62,469H; Springs Global, US, Inc., Springmaid Wamsutta Factory Store Division, Burbank, OH.

TA-W-62,469HH; Springs Global, US, Inc., Springmaid Wamsutta Factory Store Division, Queenstown, MD.

TA-W-62,469I; Springs Global, US, Inc., Springmaid Wamsutta Factory Store Division, Calhoun, GA.

TA-W-62,469II; Springs Global, US, Inc., Springmaid Wamsutta Factory Store Division, Rehoboth Beach, DE.

TA-W-62,469J; Springs Global, US, Inc., Springmaid Wamsutta Factory Store Division, Castle Rock, CO.

TA-W-62,469JJ; Springs Global, US, Inc., Springmaid Wamsutta Factory Store Division, Rockvale, PA.

TA-W-62,469K; Springs Global, US, Inc., Springmaid Wamsutta Factory Store Division, Commerce, GA.

TA-W-62,469KK; Springs Global, US, Inc., Springmaid Wamsutta Factory Store Division, Rockvale, PA.

TA-W-62,469L; Springs Global, US, Inc., Springmaid Wamsutta Factory Store Division, Conroe, TX.

TA-W-62,469LL; Springs Global, US, Inc., Springmaid Wamsutta Factory Store Division, San Marcos, TX.

TA-W-62,469M; Springs Global, US, Inc., Springmaid Wamsutta Factory Store Division, Darien, GA.

TA-W-62,469MM; Springs Global, US, Inc., Springmaid Wamsutta Factory Store Division, North Conway, NH.

TA-W-62,469N; Springs Global, US, Inc., Springmaid Wamsutta Factory Store Division, Ellenton, FL.

TA-W-62,469NN; Springs Global, US, Inc., Springmaid Wamsutta Factory Store Division, Tannersville, PA.

TA-W-62,469O; Springs Global, US, Inc., Springmaid Wamsutta Factory Store Division, Gaffney, SC.

TA-W-62,469OO; Springs Global, US, Inc., Springmaid Wamsutta Factory Store Division, Tilton, NH.

TA-W-62,469P; Springs Global, US, Inc., Springmaid Wamsutta Factory Store Division, Gainsville, TX.

TA-W-62,469PP; Springs Global, US, Inc., Springmaid Wamsutta Factory Store Division, Vero Beach, FL.

TA-W-62,469Q; Springs Global, US, Inc., Springmaid Wamsutta Factory Store Division, Gilroy, CA.

TA-W-62,469QQ; Springs Global, US, Inc., Springmaid Wamsutta Factory Store Division, Waterloo, NY.

TA-W-62,469R; Springs Global, US, Inc., Springmaid Wamsutta Factory Store Division, Grove City, PA.

TA-W-62,469RR; Springs Global, US, Inc., Springmaid Wamsutta Factory Store Division, Westbrook, CT.

TA-W-62,469S; Springs Global, US, Inc., Springmaid Wamsutta Factory Store Division, Gulfport, MS.

TA-W-62,469T; Springs Global, US, Inc., Springmaid Wamsutta Factory Store Division, Hagerstown, MD.

TA-W-62,469U; Springs Global, US, Inc., Springmaid Wamsutta Factory Store Division, Hershey, PA.

TA-W-62,469V; Springs Global, US, Inc., Springmaid Wamsutta Factory Store Division, Hillsboro, TX.

TA-W-62,469W; Springs Global, US, Inc., Springmaid Wamsutta Factory Store Division, Jeffersonville, OH.

TA-W-62,469X; Springs Global, US, Inc., Springmaid Wamsutta Factory Store Division, Johnson Creek, WI.

TA-W-62,469Y; Springs Global, US, Inc., Springmaid Wamsutta Factory Store Division, Lancaster, SC.

TA-W-62,469Z; Springs Global, US, Inc., Springmaid Wamsutta Factory Store Division, Las Vegas, NV.

TA-W-62,497; H & W Trucking Co., Inc., Mount Airy, NC.

TA-W-62,526; Bulk Bag Express, Inc., Malvern, AR.

The investigation revealed that criteria of section 222(b)(2) has not been met. The workers' firm (or subdivision) is not a supplier to or a downstream producer for a firm whose workers were certified eligible to apply for TAA.

None.

I hereby certify that the aforementioned determinations were issued during the period of December 10 through December 14, 2007. Copies of these determinations are available for inspection in Room C-5311, U.S. Department of Labor, 200 Constitution Avenue, NW., Washington, DC 20210 during normal business hours or will be mailed to persons who write to the above address.

Dated: December 21, 2007.
Linda G. Poole,
Certifying Officer, Division of Trade Adjustment Assistance.

[FR Doc. E7-25361 Filed 12-28-07; 8:45 am]

BILLING CODE 4510-FN-P